DEPARTMENT OF THE INTERIOR

Bureau of Land Management

[1220-AL]

Notice of Availability of Truckhaven Geothermal Leasing Area Final Environmental Impact Statement, California

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.),the Bureau of Land Management (BLM) has prepared a Final Environmental Impact Statement (EIS) for the Truckhaven Geothermal Leasing Area, Imperial County, managed by the El Centro Field Office.

DATES: BLM will issue a Record of Decision (ROD) 30 days after the date of publication of this notice (40 CFR 1506.10(b)(2)).

ADDRESSES: A copy of the FEIS has been sent to affected Federal, State, and local government agencies and interested parties. The document will be available electronically at the following Truckhaven Geothermal Leasing Area, Imperial County EIS Web site: http://www.ca.blm.gov/elcentro. Copies of the FEIS will be available for public inspection at the following locations:

• Bureau of Land Management, California State Office, 2800 Cottage Way, Suite W-1834, Sacramento, CA 95825.

• Bureau of Land Management, El Centro Field Office, 1661 S. 4th Street, El Centro, CA 92243.

• Bureau of Land Management, California Desert District, 22835 Calle San Juan De Los Lagos, Moreno Valley, CA 92553

FOR FURTHER IINFORMATION CONTACT: John Dalton, Truckhaven Geothermal Leasing Area EIS Project Manager, at (951) 691-5200, Bureau of Land Management, 22835 Calle San Juan De Los Lagos, Moreno Valley, CA 92553; john_dalton@ca.blm.gov.

SUPPLEMENTARY INFORMATION: The Truckhaven Geothermal Leasing Area encompasses approximately 14,731 acres of Federal minerals in western Imperial County, California, north of State Route 78 and generally west and south of County Highway S-22. The area is part of the California Desert Conservation Area. The main issues addressed in the Final EIS are geothermal resource leasing, recreation, and special status species. Three alternatives are analyzed in the Final EIS: (1) No action, which would not lease any geothermal resources; (2) leasing only lands with existing noncompetitive lease applications; and (3) the proposed action, which would offer all BLM managed lands within this area for lease, subject to certain stipulations and mitigation measures to be applied at the development stage. Comments on the Truckhaven Geothermal Leasing Area Draft EIS received from the public and via internal BLM review were incorporated into the Final EIS. These comments resulted in corrections, clarifying text, and the addition of new data used in the analysis of impacts. The Final EIS includes measures to mitigate impacts to off-highway vehicle restriction. The Final EIS addresses comprehensive, long-range decisions for the use and management of geothermal resources in the planning area and management of other resources and uses potentially affected by geothermal resource management decisions. The reasonable foreseeable development scenario for the area projects a potential for two 25-Megawatt geothermal power plants, with a total surface disturbance of 502.25 acres of the 14,731 acres proposed for leasing that are administered by the BLM. The ROD for this project will address only BLM's decisions for public lands and resources administered by the BLM.

Alan Stein,
Acting Field Manager.

[FR Doc. E8-1763 Filed 1-31-08; 8:45 am]

BILLING CODE 4310-40-P